DEPARTMENT OF JUSTICE

Notice of Lodging of Proposed Consent Decree Under the Clean Air Act

On January 4, 2013, the Department of Justice lodged a proposed consent decree with the United States District Court for the Eastern District of Wisconsin in the lawsuit entitled United States v. Wisconsin Public Service Corporation, Civ. No. 13-C-10 (E.D. Wis.).

In this civil enforcement action under the federal Clean Air Act, the United States alleges that Wisconsin Public Service Corporation (“WPS”) failed to comply with certain requirements of the Act intended to protect air quality. The complaint seeks injunctive relief and civil penalties for violations of the Prevention of Significant Deterioration (“PSD”) and Title V provisions of the Clean Air Act, 42 U.S.C. 7470-92 and 42 U.S.C. 7661a-76661f, and related state and federal implementing regulations. The complaint alleges that WPS failed to obtain appropriate permits and failed to install and operate required pollution control devices to reduce emissions of various air pollutants at the Weston Generation Station, a coal-fired power plant in Marathon County, Wisconsin.

The proposed consent decree would resolve past Clean Air Act violations and would require WPS to reduce harmful emissions of sulfur dioxide (“SO2”), nitrogen oxides (“NOX”), and particular matter (“PM”) emissions, at the Weston Generation Station, as well as the Pulliam Generation Station, a coal-fired power plant located in Brown County, Wisconsin. The reductions would be achieved through emission control requirements and limitations specified by the proposed consent decree, including installation and operation of pollution controls; retirement, refueling, or repowering of certain generating units; and annual emission caps at both the Weston and Pulliam plants. WPS will also spend $6 million to fund environmental mitigation projects that will further reduce emissions and benefit communities adversely affected by pollution from its plants, and pay a civil penalty of $1.2 million.

The publication of this notice opens a period for public comment on the proposed consent decree. Comments should be addressed to the Assistant Attorney General, Environment and Natural Resources Division, and should refer to United States v. Wisconsin Public Service Corporation, Civ. No. 13-C-10 (E.D. Wis.), D.J. Ref. No. 90-5-2-1-1230/1. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, DC 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ—ENRD, P.O. Box 7611, Washington, DC 20044-7611.

Please enclose a check or money order for $19.00 (25 cents per page reproduction cost) payable to the United States Treasury.

Maureen Katz,
Assistant Section Chief, Environmental Enforcement Section, Environment and Natural Resources Division.

[FR Doc. 2013-00232 Filed 1-8-13; 8:45 am]

BILLING CODE 4410-15-P